DEPARTMENT OF DEFENSE

Defense Acquisition Regulations System

48 CFR Parts 218, 225, and 242

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective February 26, 2015.

FOR FURTHER INFORMATION CONTACT: Mr. Manuel Quinones, Defense Acquisition Regulations System, OUSD(AT&L)DPAP(DARS), Room 3B941, 3060 Defense Pentagon, Washington, DC 20301-3060. Telephone 571-372-6088; facsimile 571-372-6094.

SUPPLEMENTARY INFORMATION: This final rule amends the DFARS as follows:

1. Directs contracting officers to additional procedures and guidance by adding a reference to DFARS Procedures, Guidance, and Information PGI 218.272 at DFARS 218.272. A cross reference to DFARS 218.272 is also added at DFARS 225.7405.

2. Directs contracting officers to additional procedures and guidance by adding a reference to DFARS Procedures, Guidance, and Information PGI 242.7502 at DFARS 242.7502.

List of Subjects in 48 CFR Parts 218, 225, and 242

Government procurement.

Manuel Quinones,
Editor, Defense Acquisition Regulations System.

Therefore, 48 CFR parts 218, 225, and 242 are amended as follows:

1. The authority citation for 48 CFR parts 218, 225, and 242 continues to read as follows:

Authority: 41 U.S.C. 1303 and 48 CFR chapter 1.

PART 218-EMERGENCY ACQUISITIONS

2. Add section 218.272 to read as follows:

218.272 Use of electronic business tools.

When supporting a contingency operation or humanitarian or peacekeeping operation, follow the procedures at PGI 218.272 concerning the use of electronic business tools.

PART 225-FOREIGN ACQUISITION

3. Add section 225.7405 to read as follows:

225.7405 Use of electronic business tools.

See 218.272 concerning the use of electronic business tools in support of a contingency operation or humanitarian or peacekeeping operation.

PART 242-CONTRACT ADMINISTRATION AND AUDIT SERVICES

4. Amend section 242.7502 by revising paragraph (g)(2) introductory text to read as follows:

242.7502 Policy.

* * * * *

(g) * * *

(2) The contracting officer responsible for negotiation of a proposal generated by an accounting system with an identified deficiency shall evaluate whether the deficiency impacts the negotiations. See also PGI 242.7502(g)(2). If it does not, the contracting officer should proceed with negotiations. If it does, the contracting officer should consider other alternatives, e.g.—

* * * * *

[FR Doc. 2015-03858 Filed 2-25-15; 8:45 am]

BILLING CODE 5001-06-P